DEPARTMENT OF ENERGY

Federal Energy Regulatory Commission

[Project No. 2351-017-CO]

Public Service Company of Colorado; Notice of Availability of Environmental Assessment

In accordance with the National Environmental Policy Act of 1969 and the Federal Energy Regulatory Commission's (Commission or FERC) regulations contained in the Code of Federal Regulations (CFR)(18 CFR Part 380 [FERC Order No. 486, 52 FR 47897]), the Office of Energy Projects has reviewed Public Service Company of Colorado's application for license for the Cabin Creek Pumped Storage Hydroelectric Project (FERC Project No. 2351), located on South Clear Creek near the town of Georgetown, Clear Creek County, Colorado. The project currently occupies a total of 267 acres of federal lands within the Arapaho National Forest administered by the U.S. Forest Service.

Staff prepared an environmental assessment (EA), which analyzes the potential environmental effects of relicensing the project, and concludes that licensing the project, with appropriate environmental protective measures, would not constitute a major federal action that would significantly affect the quality of the human environment.

A copy of the EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice. The Commission strongly encourages electronic filing. Please file the requested information using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2351-017. For further information, contact Ryan Hansen by telephone at (202) 502-8074 or by email at ryan.hansen@ferc.gov.

Dated: October 4, 2013.
Kimberly D. Bose,
Secretary.

[FR Doc. 2013-24437 Filed 10-10-13; 8:45 am]

BILLING CODE 6717-01-P